DEPARTMENT OF COMMERCE

Foreign-Trade Zones Board

[Docket 34-2004]

Proposed Foreign-Trade Zone—Conroe (Montgomery County), TX Extension of Rebuttal Comment Period

The rebuttal comment period for the application to establish a general-purpose foreign-trade zone in Conroe (Montgomery County), Texas, submitted by the City of Conroe, Texas (69 FR 51060, 8/17/04), is being extended to December 20, 2004, at the request of the applicant.

Dated: December 6, 2004.
Dennis Puccinelli,
Executive Secretary.

[FR Doc. 04-27378 Filed 12-13-04; 8:45 am]

BILLING CODE 3510-DS-P